DEPARTMENT OF AGRICULTURE

Deschutes Provincial Advisory Committee (DPAC)

AGENCY: Forest Service, Department of Agriculture.

ACTION: Notice of meeting.

SUMMARY: The Deschutes Provincial Advisory Committee will meet on July 9, 2009, to discuss the future of sustainable recreation on the Deschutes National Forest. The meeting will start at 8:30 a.m. at the Forest Supervisor's Office, 1001 SW. Emkay Drive, Bend, Oregon in the Upper Deschutes Conference Room. Members will be updated on the winter Recreation Sustainability Analysis. An Open Public Forum is scheduled from 9:40-10 a.m. Then, members will go to the field at 10 a.m. to key recreation sites on the forest to discuss future desired recreation opportunities in preparation for the upcoming Forest Plan Revision. The trip is scheduled to end at 4 p.m. All Deschutes Province Advisory Committee Meetings are open to the public.

FOR FURTHER INFORMATION CONTACT: Chris Mickle, Province Liaison, Crescent Ranger District, Highway 97, Crescent, Oregon 97733, Phone (541) 433-3216.

Mary Farnsworth,
Deputy Deschutes National Forest Supervisor.

[FR Doc. E9-15247 Filed 6-29-09; 8:45 am]

BILLING CODE 3410-11-M